ENVIRONMENTAL PROTECTION AGENCY

[FRL-7120-1]

Lorentz Barrel & Drum Superfund Site Notice of Proposed Administrative Settlement

AGENCY: Environmental Protection Agency (EPA).

ACTION: Notice; request for public comment.

SUMMARY: In accordance with the Comprehensive Environmental Response, Compensation and Liability Act of 1980, as amended by the Superfund Amendments and Reauthorization Act of 1986 (CERCLA), 42 U.S.C. 9600 et seq., notice is hereby given that a proposed Agreement and Covenant Not to Sue (Prospective Purchaser Agreement) associated with the Lorentz Barrel & Drum National Priorities List Superfund Site was executed by the United States Environmental Protection Agency (EPA) on November 20, 2001. The proposed Prospective Purchaser Agreement would resolve certain potential claims of the United States under sections 106 and 107(a) of CERCLA, 42 U.S.C. 9606 and 9607(a) against 10th Street Land Management, a California corporation, (the Purchaser). The Purchaser plans to acquire the 5-acre parcel constituting the Superfund Site, located at the intersection of S. 10th Street and Alma Avenue, San Jose, California, and operate it as a parking and storage facility for commercial trucks, other vehicles and equipment.

In exchange for the settlement, 10th Street Land Management has agreed to pay EPA $408,000 in cash that will be placed in a special account for use at the Site. In addition, 10th Street Land Management has agreed to maintain the asphalt cap.

For thirty (30) calendar days following the date of publication of this notice, EPA will receive written comments relating to the proposed settlement. If requested prior to the expiration of this public comment period, EPA will provide an opportunity for a public meeting in the affected area. EPA's response to any comments received will be available for public inspection at the U.S. Environmental Protection Agency, 75 Hawthorne Street, San Francisco, CA 94105.

DATES: Comments must be submitted on or before January 18, 2002.

ADDRESSES: The proposed Prospective Purchaser Agreement and additional background documents relating to the settlement are available for public inspection at the U.S. Environmental Protection Agency, 75 Hawthorne Street, San Francisco, CA 94105. A copy of the proposed settlement may be obtained from William Keener, Assistant Regional Counsel (ORC-1), Office of Regional Counsel, U.S. EPA Region IX, 75 Hawthorne Street, San Francisco, CA 94105. Comments should reference “10th Street Land Management PPA, Lorentz Barrel & Drum Superfund Site” and “Docket No. 2002-04” and should be addressed to William Keener at the above address.

FOR FURTHER INFORMATION CONTACT: William Keener, Assistant Regional Counsel (ORC-1), Office of Regional Counsel, U.S. EPA Region IX, 75 Hawthorne Street, San Francisco, CA 94105; phone: (415) 972-3940; fax: (415) 947-3570; e-mail: keener.bill@epa.gov.

Dated: December 12, 2001.
Jane Diamond,
Acting Director, Superfund Division, U.S. EPA, Region IX.

[FR Doc. 01-31241 Filed 12-18-01; 8:45 am]

BILLING CODE 6560-50-P